DEPARTMENT OF ENERGY

Federal Energy Regulatory Commission

Combined Notice of Filings

Take notice that the Commission has received the following Natural Gas Pipeline Rate and Refund Report filings:

Filings Instituting Proceedings

Docket Numbers: RP14-147-000.

Applicants: Texas Gas Transmission, LLC.

Description: Re-release of Neg Rate Agmt (SIGECO 33274 to ETC ProLiance 33380) to be effective 11/1/2013.

Filed Date: 11/4/13.

Accession Number: 20131104-5021.

Comments Due: 5 p.m. ET 11/18/13.

Docket Numbers: RP14-148-000.

Applicants: Wyoming Interstate Company, L.L.C.

Description: Rate Case Settlement First Compliance Filing in Docket No. RP13-184-000 to be effective 7/1/2013.

Filed Date: 11/4/13.

Accession Number: 20131104-5046.

Comments Due: 5 p.m. ET 11/18/13.

Docket Numbers: RP14-149-000.

Applicants: AEP Generation Resources Inc., Ohio Power Company.

Description: Notice of Change of Ownership, Request for Temporary Waiver, Request for Expedited Action, and Request for Shortened Notice Period of AEP Generation Resources, Inc. and Ohio Power Company.

Filed Date: 11/4/13.

Accession Number: 20131104-5153.

Comments Due: 5 p.m. ET 11/12/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-148-001.

Applicants: Wyoming Interstate Company, L.L.C.

Description: Wyoming Interstate Company, L.L.C. submits tariff filing per 154.203: Rate Case Settlement Second Compliance Filing in Docket No. RP13-184-000 to be effective 1/1/2014.

Filed Date: 11/4/13.

Accession Number: 20131104-5063.

Comments Due: 5 p.m. ET 11/18/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2013.
Nathaniel J. Davis, Sr.,
Deputy Secretary.

[FR Doc. 2013-27063 Filed 11-12-13; 8:45 am]

BILLING CODE 6717-01-P